DEPARTMENT OF TRANSPORTATION

Federal Highway Administration

Environmental Impact Statement; Montgomery, Harris, Liberty, and Chambers Counties, TX

AGENCY: Federal Highway Administration (FHWA), TxDOT.

ACTION: Notice of intent, Grand Parkway Segments H and I-1 EIS.

SUMMARY: The FHWA is issuing this notice to advise the public that an Environmental Impact Statement (EIS) will be prepared for a proposed State Highway (SH) 99 (Grand Parkway Segments H and H-1) connecting US 59 (N) to IH 10 (E) in Montgomery, Harris, Liberty, and Chambers Counties, Texas.

FOR FURTHER INFORMATION CONTACT: Mr. Gary Johnson, P.E., Federal Highway Administration, Texas Division, 300 East 8th Street, Room 826, Austin, Texas 78701, Telephone (512) 536-5960.

SUPPLEMENTARY INFORMATION: The Federal Highway Administration (FHWA), in cooperation with TxDOT and the Grand Parkway Association, will prepare an EIS for transportation alternatives included in Segments H and I-1 of the proposed Grand Parkway. Segments H and I-1 are located on the northeast side of the greater Houston metropolitan area and span the area from US 59 (N) to IH 10 (E) generally between FM 2100 and SH 146 in Montgomery, Harris, Liberty, and Chambers Counties, a distance of approximately 36 miles.

The proposed Grand Parkway is planned as a 182-mile circumferential highway facility around the greater Houston metropolitan area. It would provide access to radial freeways and would serve as a third loop around the City of Houston. The Grand Parkway has been divided into 11 segments of independent utility. Currently, Segment D (US 59 S to IH 10 W) of the Grand Parkway is open to the traveling public. Segment D is 19 miles long and is located on the southwest side of the greater Houston metropolitan area. The remaining Segments A (SH 146 to IH 45 S), B (IH 45 S to SH 288), C (US 59 S to SH 288), E (IH 10 W to US 290), F1 (US 290 to SH 249), F2 (SH 249 to IH 45 N), G (IH 45 N to US 59 N), and I-2 (IH 10 E to SH 146) are in various stages of project development. Segments H and I-1 are planned as a four-lane, limited access, toll facility within a 400-foot wide right-of-way.

The Grand Parkway (SH 99) is a key element of the 2025 Regional Transportation Plan, a transportation program developed by the Houston-Galveston Area Council. The project is proposed as a toll facility in the 2025 regional plan.

The EIS will include a preferred alternative alignment, number of lanes, roadway configuration, and operational characteristics of the proposed roadway. Alternatives to be studied include “no-action” (the no-build alternative), Transportation System Management (TSM)/Transportation Demand Management (TDM) alternative; mass transit alternative and roadway build alternatives. The EIS will evaluate potential impacts from construction and operation of the proposed roadway including, but not limited to, the following: transportation impacts (construction detours, construction traffic, mobility improvement and evacuation improvement), air, and noise impacts from construction equipment and operation of the facilities, water quality impacts from construction area and roadway storm water runoff, impacts to waters of the United States including wetlands from right-of-way encroachment, impacts to historic and archeological resources, impacts of floodplains, and impacts and/or potential displacements to residents and businesses.

Correspondence describing the proposed project and soliciting comments has been sent to appropriate Federal, state, regional, and local agencies, and to organizations and persons who have previously expressed an interest or are known to have an interest in this project.

TxDOT and the Grand Parkway Association will conduct a series of public scoping meetings in March 2006 held in two separate locations. The public scoping meetings will be conducted in an open house format with no formal presentation and both meetings will present the same information. At least 30 days and 10 days prior to the public scoping meetings, notices will be published in newspapers having general circulation in the project area. These will be the first in a series of meetings to solicit public comments on the proposed action as part of the National Environmental Policy Act (NEPA) process.

Persons who have special communication, access, or accommodation needs should contact TxDOT's public information office at (713) 802-5072 at least two working days prior to the meeting. TxDOT offices are open Monday-Friday, from 8 a.m. to 5 p.m., excluding national holidays. The public meetings will be conducted in English. Requests for language interpreters should also be made at least two working days in advance of the meeting/hearing/workshop. TxDOT will make all reasonable efforts to accommodate these needs.

Public involvement will occur throughout the planning process. Public notice will be given stating the time and place of future public meetings and hearings. The Draft EIS will be available for public and agency review and comment prior to a public hearing.

To ensure that the full range of issues related to this proposed action are addressed and all significant issues identified, comments and suggestions are invited from all interested parties. Comments or questions concerning this proposed action and the EIS should be directed to FHWA at the address provided.

(Catalog of Federal Domestic Assistance Program Number 20.205 Highway Planning and Construction. The regulations implementing Executive Order 12372 regarding governmental consultation on federal programs and activities apply to this program.)
Gary N. Johnson,
Acting District Engineer, FHWA Texas Division.

[FR Doc. 06-1239 Filed 2-9-06; 8:45 am]

BILLING CODE 4910-22-M